DEPARTMENT OF HOMELAND SECURITY

Coast Guard

[CGD07-05-114]

Implementation of Sector Jacksonville

AGENCY: Coast Guard, DHS.

ACTION: Notice of organizational change.

SUMMARY: The Coast Guard announces the establishment of Sector Jacksonville. The Sector Jacksonville Commanding Officer will have the authority, responsibility and missions of a Group Commander, Captain of the Port (COTP) and Commanding Officer, Marine Safety Office (MSO). The Coast Guard has established a continuity of operations order whereby all previous practices and procedures will remain in effect until superseded by an authorized Coast Guard official and/or document.

DATES: The effective date of the sector establishment is August 16, 2005.

ADDRESSES: Documents indicated in this preamble as being available in the docket are part of docket CGD07-05-114 and are available for inspection or copying at Commander, Seventh Coast Guard District, Resources, 9th Floor, 909 SE 1st Avenue, Miami, FL 33131 between 7:30 a.m. and 4:30 p.m., Monday through Friday, except Federal Holidays.

FOR FURTHER INFORMATION CONTACT: Lieutenant Commander Michael Jackson, Seventh District Resources Division at 305-415-6706.

SUPPLEMENTARY INFORMATION:

Discussion of Notice

This notice announces the establishment of Sector Jacksonville. Upon creation of Sector Jacksonville, Group Mayport and MSO Jacksonville will be incorporated into the Sector and no longer exist as specific entities. Sector Jacksonville will be composed of a Response Department, Prevention Department, and Logistics Department. All existing missions and functions performed by Group Mayport and MSO Jacksonville should be realigned under this new organizational structure as of August 16, 2005.

Sector Jacksonville is responsible for all Coast Guard missions in the Jacksonville marine inspection zone, COTP zone, and Area of Responsibility (AOR). A continuity of operations order has been issued to address existing COTP regulations, orders, directives and policies.

Sector Jacksonville is responsible for all Coast Guard missions within the following zone beginning at the Georgia coast at 30-50.00N latitude; thence west to 30-50.00N latitude, 082-15.00W longitude; thence south to the intersection of the Florida-Georgia boundary at 082-15.00W longitude; thence westerly along the Florida-Georgia boundary to 083-00.00W longitude; thence southeasterly to 28-00.00N latitude, 081-30.00W longitude; thence east to the sea along 28-00.00N latitude. The offshore boundary starts at the coast at 30-50.00N latitude; thence proceeds easterly to the outermost extent of the exclusive economic zone (EEZ); thence southerly along the outermost extent of the EEZ to 28-00.00N latitude; thence westerly along 28-00.00N latitude to the coast. All coordinates referenced use North American Datum 1983 (NAD 1983).

The Sector Jacksonville Commander is vested with all rights, responsibilities, duties, and authority of a Group Commander and Commanding Officer, Marine Safety Office, as provided for in Coast Guard regulations, and is the successor in command to the Commanding Officer, Marine Safety Office Jacksonville and the Commander, Group Mayport. The Sector Jacksonville Commander shall be designated: (a) COTP for the zone described in 33 CFR 3.35-20; (b) Federal Maritime Security Coordinator (FMSC); (c) Federal On Scene Coordinator (FOSC) for the zone described in 33 CFR 3.35-20, consistent with the national contingency plan; (d) Officer In Charge of Marine Inspection (OCMI) for the zone described in 33 CFR 3.35-20. The Deputy Sector Commander may be designated alternate COTP, FMSC, FOSC, and Acting OCMI.

The following information is a list of updated command titles, addresses and points of contact to facilitate requests from the public and assist with entry into security or safety zones.

Name: Sector Jacksonville.

Addresses: Commander, U.S. Coast Guard Sector Jacksonville, 4800 Ocean Street, Atlantic Beach, FL 32211.

Contact: Operations Center (Emergency): (904) 564-7511, (904) 247-7311. Sector Commander: (904) 564-7501. Deputy Sector Commander: (904) 564-7501. Chief, Response Department: (904) 564-7537. Chief, Logistics Department: (904) 564-7539. Chief, Prevention Department: (904) 564-7565.

Dated: August 15, 2005.
D.B. Peterman,
Rear Admiral, U.S. Coast Guard, Commander, Seventh Coast Guard District.

[FR Doc. 05-17158 Filed 8-29-05; 8:45 am]

BILLING CODE 4910-15-P